DEPARTMENT OF LABOR

Employment and Training Administration

[TA-W-72,438]

Ternium USA, Inc.; Shreveport, LA; Notice of Termination of Investigation

Pursuant to Section 223 of the Trade Act of 1974, as amended, an investigation was initiated in response to a petition filed on September 28, 2009, by a company official on behalf of workers of Ternium, USA, Inc., Shreveport, Louisiana.

The petitioner has requested that the petition be withdrawn. Accordingly, the investigation has been terminated.

Signed at Washington, DC, this 8th day of January 2010.
Del Min Amy Chen,
Certifying Officer, Division of Trade Adjustment Assistance.

[FR Doc. 2010-5356 Filed 3-11-10; 8:45 am]

BILLING CODE 4510-FN-P